ENVIRONMENTAL PROTECTION AGENCY

[FRL-9946-12-Region 9]

Highland Plating Removal Site, Los Angeles, CA; Notice of Proposed CERCLA Settlement Agreement and Order on Consent

AGENCY: Environmental Protection Agency (EPA).

ACTION: Notice; request for comment.

SUMMARY: In accordance with Section 122(i) of the Comprehensive Environmental Response, Compensation and Liability Act of 1980, as amended (CERCLA), 42 U.S.C. 9622(i), notice is hereby given of a proposed administrative settlement with 7007 W. Romaine (LA) LLC, for a removal action by a bona fide prospective purchaser, concerning the Highland Plating Removal Site in Los Angeles, California. EPA enters the settlement pursuant to Section 122(h)(1) of CERCLA, 42 U.S.C. 9622(h)(1). The settlement provides for the completion of a removal action at a fire-ravaged plating facility in a residential and light industrial community, and is premised on the status of 7007 W. Romaine (LA) LLC as a bona fide prospective purchaser. The settlement does not require cost recovery, but includes a covenant not to sue pursuant to Sections 106 or 107(a) of CERCLA, 42 U.S.C. 9606 or 9607(a). For thirty (30) days following the date of publication of this notice in the Federal Register, the Agency will receive written comments relating to the settlement. The Agency will consider all comments received and may modify or withdraw its consent to the settlement if comments received disclose facts or considerations that indicate the proposed settlement is inappropriate, improper, or inadequate. The Agency's response to any comments received will be available for public inspection at 75 Hawthorne Street, San Francisco, CA 94105.

DATES: Pursuant to Section 122(i) of CERCLA, EPA will receive written comments relating to this proposed settlement for thirty (30) days following the date of publication of this notice in the Federal Register.

ADDRESSES: The proposed settlement is available for public inspection at EPA Region IX, 75 Hawthorne Street, San Francisco, California. A copy of the proposed settlement may be obtained from J. Andrew Helmlinger, EPA Region IX, 75 Hawthorne Street, ORC-3, San Francisco, CA 94105, telephone number 415-972-3904. Comments should reference the Highland Plating Removal Site, Los Angeles, California and should be addressed to Mr. Helmlinger at the above address.

FOR FURTHER INFORMATION CONTACT: J. Andrew Helmlinger, Assistant Regional Counsel (ORC-3), Office of Regional Counsel, U.S. EPA Region IX, 75 Hawthorne Street, San Francisco, CA 94105; phone: (415) 972-3904; fax: (417) 947-3570; email: helmlinger.andrew@epa.gov.

Dated: April 28, 2016.
Enrique Manzanilla,
Director, Superfund Division, U.S. EPA, Region IX.

[FR Doc. 2016-10986 Filed 5-9-16; 8:45 am]

BILLING CODE 6560-50-P